DEPARTMENT OF ENERGY

[Docket No. 21-99-LNG]

Carib Energy (USA) LLC; Application for Blanket Authorization To Export Previously Imported Liquefied Natural Gas to Non-Free Trade Agreement Countries on a Short-Term Basis

AGENCY: Office of Fossil Energy and Carbon Management, Department of Energy.

ACTION: Notice of application.

SUMMARY: The Office of Fossil Energy and Carbon Management (FECM) of the Department of Energy (DOE) gives notice (Notice) of receipt of an application (Application), filed on September 14, 2021, by Carib Energy (USA) LLC (Carib Energy). Carib Energy requests blanket authorization to export liquefied natural gas (LNG) previously imported into the United States by vessel from foreign sources in a volume equivalent to 0.48 billion cubic feet per year (Bcf/yr) of natural gas on a cumulative basis over a two-year period. Carib Energy filed the Application under the Natural Gas Act (NGA).

DATES: Protests, motions to intervene or notices of intervention, as applicable, requests for additional procedures, and written comments are to be filed electronically as detailed in the Public Comment Procedures section no later than 4:30 p.m., Eastern time, December 6, 2021.

ADDRESSES:

Electronic Filing by email: fergas@hq.doe.gov.

Although DOE has routinely accepted public comment submissions through a variety of mechanisms, including postal mail and hand delivery/courier, DOE has found it necessary to make temporary modifications to the comment submission process in light of the ongoing Covid-19 pandemic. DOE is currently accepting only electronic submissions at this time. If a commenter finds that this change poses an undue hardship, please contact Office of Resource Sustainability staff at (202) 586-2627 or (202) 586-4749 to discuss the need for alternative arrangements. Once the Covid-19 pandemic health emergency is resolved, DOE anticipates resuming all of its regular options for public comment submission, including postal mail and hand delivery/courier.

FOR FURTHER INFORMATION CONTACT:

Beverly Howard or Jennifer Wade, U.S. Department of Energy (FE-34) Office of Regulation, Analysis, and Engagement, Office of Resource Sustainability, Office of Fossil Energy and Carbon Management,¹ Forrestal Building, Room 3E-042, 1000 Independence Avenue SW, Washington, DC 20585, (202) 586-9387 or (202) 586-4749, beverly.howard@hq.doe.gov or jennifer.wade@hq.doe.gov.

¹ The Office of Fossil Energy changed its name to the Office of Fossil Energy and Carbon Management on July 4, 2021.

Cassandra Bernstein, U.S. Department of Energy (GC-76) Office of the Assistant General Counsel for Electricity and Fossil Energy, Forrestal Building, Room 6D-033, 1000 Independence Avenue SW, Washington, DC 20585, (202) 586-9793, cassandra.bernstein@hq.doe.gov.

SUPPLEMENTARY INFORMATION: Carib Energy requests a blanket authorization to export LNG that has been previously imported into the United States from foreign sources for a two-year period. Carib Energy states that it will purchase the LNG primarily from the Crowley LNG Puerto Rico Truck Loading Facility (Crowley Facility), located in Peñuelas, Puerto Rico.² Carib Energy states that the Crowley Facility will receive LNG that has been imported into Puerto Rico from locations outside the United States via the EcoElectrica LNG Terminal. Carib Energy proposes to export the LNG from the Crowley Facility by use of approved IM07/TVAC-ASME LNG containers (ISO containers) transported on ocean-going container vessels to any country within Central America, South America, or the Caribbean with which trade is not prohibited by U.S. law or policy.³ This includes both countries with which the United States has entered into a free trade agreement (FTA) requiring national treatment for trade in natural gas (FTA countries) and all other countries (non-FTA countries). This Notice applies only to the portion of the Application requesting authority to export the previously imported LNG to non-FTA countries pursuant to section 3(a) of the NGA, 15 U.S.C. 717b(a).

² Carib Energy states that it is a wholly-owned subsidiary of Crowley Shipping, Inc. Carib Energy further states that Crowley LNG Puerto Rico constructed the Crowley Facility and owns and controls the site on which the Crowley Facility is located.

³ See also Email from Greg Buffington, Crowley Shipping, to DOE, Docket No. 21-99-LNG (Oct. 26, 2021) (stating that Carib Energy proposes to export this LNG via ISO containers only).

Carib Energy requests that the authorization commence on the earlier of either the first date of re-export of LNG, or five years from the date on which DOE issues an order granting the requested authorization. Carib Energy further requests this authorization on its own behalf and as agent for other parties who hold title to the LNG at the time of export. Additional details can be found in Carib Energy's Application, posted on the DOE website at: www.energy.gov/sites/default/files/2021-09/21-99-LNG.pdf.

DOE Evaluation

In reviewing Carib Energy's Application, DOE will consider any issues required by law or policy. DOE will consider domestic need for the gas, as well as any other issues determined to be appropriate, including whether the arrangement is consistent with DOE's policy of promoting competition in the marketplace by allowing commercial parties to freely negotiate their own trade arrangements. Parties that may oppose this application should comment in their responses on these issues.

The National Environmental Policy Act (NEPA), 42 U.S.C. 4321 et seq., requires DOE to give appropriate consideration to the environmental effects of its proposed decisions. No final decision will be issued in this proceeding until DOE has met its NEPA responsibilities.

Public Comment Procedures

In response to this Notice, any person may file a protest, comments, or a motion to intervene or notice of intervention, as applicable. Interested parties will be provided 30 days from the date of publication of this Notice in which to submit comments, protests, motions to intervene, or notices of intervention.

Any person wishing to become a party to the proceeding must file a motion to intervene or notice of intervention. The filing of comments or a protest with respect to the Application will not serve to make the commenter or protestant a party to the proceeding, although protests and comments received from persons who are not parties will be considered in determining the appropriate action to be taken on the Application. All protests, comments, motions to intervene, or notices of intervention must meet the requirements specified by the regulations in 10 CFR part 590.

As noted, DOE is only accepting electronic submissions at this time. Please email the filing to fergas@hq.doe.gov. All filings must include a reference to “Docket No. 21-99-LNG” or “Carib Energy Application” in the title line.

Please Note: Please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

The Application and any filed protests, motions to intervene, notices of interventions, and comments will also be available electronically by going to the following DOE Web address: https://www.energy.gov/fecm/division-natural-gas-regulation.

A decisional record on the Application will be developed through responses to this Notice by parties, including the parties' written comments and replies thereto. Additional procedures will be used as necessary to achieve a complete understanding of the facts and issues. If an additional procedure is scheduled, notice will be provided to all parties. If no party requests additional procedures, a final Opinion and Order may be issued based on the official record, including the Application and responses filed by parties pursuant to this Notice, in accordance with 10 CFR 590.316.

Signed in Washington, DC, on October 29, 2021.
Amy Sweeney,
Director, Office of Regulation, Analysis, and Engagement, Office of Resource Sustainability.

[FR Doc. 2021-24214 Filed 11-4-21; 8:45 am]

BILLING CODE 6450-01-P